FEDERAL COMMUNICATIONS COMMISSION

47 CFR Part 73

[DA 01-2908; MM Docket No. 99-233; RM-9662 & RM-9828]

Radio Broadcasting Services; Bridgeport, Bonham, Graham, Palestine, Price, Ranger, Stephenville, TX and Ardmore, Lawton, Tecumseh, Fort Towson, OK

AGENCY: Federal Communications Commission.

ACTION: Final rule; petition for reconsideration, withdrawal.

SUMMARY: This document dismisses a Petition for Reconsideration filed by North Texas Radio Group, L.P. (“North Texas”) in this proceeding. See 66 FR 12920, March 1, 2001. In response to the Notice of Proposed Rule Making in this proceeding, North Texas filed a counterproposal requesting the substitution of Channel 252C for Channel 252A at Bridgeport, TX and modification of the license for Station KBOC accordingly. To accommodate the upgrade at Bridgeport, North Texas requested changes at Bonham, Graham, Palestine, Price, Ranger & Stephenville, TX and Ardmore, Lawton, Tecumseh & Fort Towson, OK. Stowell, Texas. On December 3, 2001, North Texas withdrew its Petition for Reconsideration in compliance with Section 1.420(j) of the Commission's Rules. As requested, we shall dismiss the Petition for Reconsideration. With this action, this proceeding is terminated.

FOR FURTHER INFORMATION CONTACT: Kathleen Scheuerle, Mass Media Bureau, (202) 418-2180.

SUPPLEMENTARY INFORMATION: This is a summary of the Commission's Memorandum Opinion and Order, MM Docket No. 99-233, adopted December 5, 2001, and released December 14, 2001. The full text of this Commission decision is available for public inspection and copying during regular business hours at the FCC Reference Information Center, Portals II, 445 12th Street, SW., Room CY-A257, Washington, DC 20554. This document may also be purchased from the Commission's duplicating contractor, Qualex International, Portals II, 445 12th Street, SW., Room CY-B402, Washington, DC 20554, telephone 202-863-2893, facsimile 202-863-2898, or via e-mail qualexint@aol.com.

Federal Communications Commission.
John A. Karousos,
Chief, Allocations Branch, Policy and Rules Division, Mass Media Bureau.

[FR Doc. 02-371 Filed 1-7-02; 8:45 am]

BILLING CODE 6712-01-P